DEPARTMENT OF COMMERCE

National Oceanic and Atmospheric Administration

RIN: 0648-XO35

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings.

DATES: The meetings will be held April 14-17, 2009.

ADDRESSES: The meetings will be held at the W New Orleans, 333 Poydras St., New Orleans, LA 70130.

Council address: Gulf of Mexico Fishery Management Council, 2203 North Lois Avenue, Suite 1100, Tampa, FL 33607.

FOR FURTHER INFORMATION CONTACT: Dr. Richard Leard, Interim Executive Director, Gulf of Mexico Fishery Management Council; telephone: (813) 348-1630.

SUPPLEMENTARY INFORMATION:

Council

Thursday, April 16, 2009—The Council meeting will begin at 1:30 p.m. with a review of the agenda and minutes.

From 1:45 p.m.-2:45 p.m., the Council will receive public testimony on exempted fishing permits (EFPs), if any; and Open Public Comment Period regarding any fishery issue of concern. People wishing to speak before the Council should complete a public comment card prior to the comment period.

From 2:45 p.m.-5 p.m., the Council will review and discuss the report of the committee meetings as follows: Budget/Personnel; Data Collection; Sustainable Fisheries/Ecosystem; CLOSED SESSION—AP Selection and SSC Selection.

Friday, April 17, 2009

From 8:30 a.m.-12 p.m. and 1:30 p.m.-2 p.m., the Council will continue to review and discuss reports from the committee meetings as follows: Administrative Policy; Outreach & Education; AP Selection; SSC Selection; and Reef Fish Management.

From 2 p.m.-2:30 p.m., Other Business items will follow. The Council will conclude its meeting at approximately 2:30 p.m.

Committees

Tuesday, April 14, 2009

8:30 a.m.-10 a.m.—CLOSED SESSION—The AP Selection Committee will meet to select members of Council Advisory Panels.

10 a.m.-12 p.m.—CLOSED SESSION—The SSC Selection Committee will meet to review the SSC Job Description and select members of the Scientific and Statistical Committees.

1:30 p.m.-2 p.m.—The Budget/Personnel Committee will meet to review the 2009 Budget.

2 p.m.-5:30 p.m.—The Data Collection Committee will listen to presentations on Olfish/Environmental Defense Electronic Logbook Pilot Project; North Carolina Text Message Based Reporting Pilot Project and CLS America's Satellite Based Environmental Data Collection, as well as, report from the GSMFC FIN Committee Meeting.

Wednesday, April 15, 2009

8:30 a.m.-9:30 a.m.—The Sustainable Fisheries/Ecosystem Committee will meet to discuss a Paper for Generic ACL/AM Amendment and select Scoping Hearing Locations.

9:30 a.m.-12 p.m. and 1:30 p.m.—5:30 p.m.—The Reef Fish Management Committee will meet to discuss the Draft Reef Fish Amendment 31/DEIS to address Longline/Turtle Interactions; SEP Meeting Report; Allocation of Species in Reef Fish Amendments 30A & 30B; a Status Report from the Gag/Red Grouper Update Assessment workshop; a potential Reef Fish IFQ Amendment and a potential New Recreational Catch Accountability and Reporting AP.

5:30 p.m.-6:30 p.m.—There will be an Informal Open Public Question and Answer Session.

Thursday, April 16, 2009

8:30 a.m.-10:30 a.m.—The Administrative Policy Committee will discuss Draft Changes to SOPPs from MSRA.

10:30 a.m.-12 p.m.—The Outreach & Education Committee will meet to discuss the Report from the Outreach and Education AP Meeting.

Although other non-emergency issues not on the agendas may come before the Council and Committees for discussion, in accordance with the Magnuson--Stevens Fishery Conservation and Management Act (Magnuson-Stevens Act), those issues may not be the subject of formal action during these meetings. Actions of the Council and Committees will be restricted to those issues specifically identified in the agendas and any issues arising after publication of this notice that require emergency action under Section 305(c) of the Magunson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Tina O'Hern at the Council (see ADDRESSES) at least 5 working days prior to the meeting.

Dated: March 20, 2009.
Tracey L. Thompson,
Acting Director, Office of Sustainable Fisheries, National Marine Fisheries Service.

[FR Doc. E9-6506 Filed 3-24-09; 8:45 am]

BILLING CODE 3510-22-S